FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than March 28, 2025.

A. Federal Reserve Bank of St. Louis (Holly A. Rieser, Senior Manager) P.O. Box 442, St. Louis, Missouri 63166-2034. Comments can also be sent electronically to Comments.applications@stls.frb.org:

1. Tony Steele, Tyler Steele, Carolyn Grimsley, Jill Grimsley, Paul Grimsley and Guy Cable, each of Bentonville, Arkansas; Philip Fletcher, Hiwasse, Arkansas; Kirby Lane, Anderson, Missouri; Tommy Coughlin, Centerton, Arkansas; John Kallenbach and Jim Hacker, each of Bolivar, Missouri; Roland Julian, Rogers, Arkansas; Beverly Jones, Jay, Oklahoma; and Pam Lawson, Grove, Oklahoma; to acquire voting shares of Stark Bancshares, Inc., and thereby indirectly acquire voting shares of LimeBank, both of Bolivar, Missouri.

B. Federal Reserve Bank of Kansas City (Jeffrey Imgarten, Assistant Vice President) 1 Memorial Drive, Kansas City, Missouri 64198-0001. Comments can also be sent electronically to KCApplicationComments@kc.frb.org:

1. The Henry Kosman Irrevocable Trust, dtd 10/8/2021, Torrington, Wyoming, Willa Z. Kosman and Henry Hunter Kosman, both of Scottsbluff, Nebraska, and Jennifer R. Bostic, Phoenix, Arizona, as co-trustees; the Willa Kosman Irrevocable Trust, dtd 10/10/2021, Torrington, Wyoming, Henry Howell Kosman, Scottsbluff, Nebraska, Jennifer R. Bostic, and Henry Hunter Kosman, as co-trustees; the Rudy Rothseiden Irrevocable Trust, Rudy Rothseiden, as trustee, both of Alachua, Florida; Anne Burkholder, Megan A. Burkholder, Ashley G. Burkholder, and Karyn A. Burkholder, each of Cozad, Nebraska; and a minor child of Henry Hunter Kosman, Jennifer Bostic, as custodian; to join the Kosman Family Group, a group acting in concert, to retain voting shares of Platte Valley Financial Service Companies Inc., (PVFSC), and indirectly retain voting shares of Platte Valley Bank (PVBS), both of Scottsbluff, Nebraska; Platte Valley Bank (PVBT), Torrington, Wyoming; and Mountain Valley Bank (MVB), Walden, Colorado.

In addition, Meredith Hertweck, Durham, North Carolina; to join the Kosman Family Group to acquire voting shares of PVFSC, and indirectly retain voting shares of PVBS, PVBT, and MVB. Willa Kosman, Jennifer Bostic, Henry Hunter Kosman, Henry Howell Kosman, and Rudy Rothseiden have previously been permitted in their individual capacities by the Federal Reserve System to acquire shares of PVFS and are members of the Kosman Family Group.

Board of Governors of the Federal Reserve System.
Michele Taylor Fennell,
Associate Secretary of the Board.

[FR Doc. 2025-04022 Filed 3-12-25; 8:45 am]

BILLING CODE 6210-01-P